DEPARTMENT OF TRANSPORTATION

Surface Transportation Board

[STB Ex Parte No. 670 (Sub-No. 3)]

Renewal of Rail Energy Transportation Advisory Committee

AGENCY: Surface Transportation Board, DOT.

ACTION: Notice of intent to renew charter.

SUMMARY: In accordance with the Federal Advisory Committee Act, as amended 5 U.S.C., App. (FACA), notice is hereby given that the Surface Transportation Board (Board) intends to renew the charter of the Rail Energy Transportation Advisory Committee (RETAC).

ADDRESSES: A copy of the charter is available at the Library of the Surface Transportation Board, 395 E Street, SW., Washington, DC 20423-0001, and on the Board's Web site at http://www.stb.dot.gov.

FOR FURTHER INFORMATION CONTACT: Scott Zimmerman, Designated Federal Official, at (202) 245-0202. Assistance for the hearing impaired is available through the Federal Information Relay Service (FIRS) at: (800) 877-8339.

SUPPLEMENTARY INFORMATION: RETAC was established by the Board on September 24, 2007, to provide advice and guidance to the Board, on a continuing basis, and to provide a forum for the discussion of emerging issues and concerns regarding the transportation by rail of energy resources, particularly but not necessarily limited to coal, ethanol and other biofuels. RETAC functions solely as an advisory body, and will comply with the provisions of FACA, and its implementing regulations.

RETAC consists of approximately 25 voting members, excluding the governmental representatives. The membership comprises a balanced representation of individuals experienced in issues affecting the transportation of energy resources, including not less than: 5 representatives from the Class I railroads; 3 representatives from Class II and III railroads; 3 representatives from coal producers; 5 representatives from electric utilities (including at least one rural electric cooperative and one state- or municipally-owned utility); 4 representatives from biofuel feedstock growers or providers, and biofuel refiners, processors and distributors; and 2 representatives from private car owners, car lessors, or car manufacturers. These members are serving in a representative capacity for this Committee. The Committee may also include up to 3 members with relevant experience but not necessarily affiliated with one of the aforementioned industries or sectors. STB Board Members are ex officio (non-voting) members of RETAC.

RETAC meets approximately four times a year, and meetings are open to the public, consistent with the Government in the Sunshine Act, Public Law 94-409.

Further information about the RETAC is available on the Board's Web site at http://www.stb.dot.gov and at the GSA's FACA Database— https://www.fido.gov/facadatabase/public.asp.

This action will not significantly affect either the quality of the human environment or the conservation of energy resources.

Dated: September 3, 2009.
Jeffrey Herzig,
Clearance Clerk.

[FR Doc. E9-21660 Filed 9-8-09; 8:45 am]

BILLING CODE 4915-01-P